DEPARTMENT OF AGRICULTURE

Forest Service

Superior National Forest, Gunflint Ranger District, Minnesota; South Fowl Lake Snowmobile Access Project

AGENCY: Forest Service, USDA.

ACTION: Notice of Intent to Prepare an Environmental Impact Statement.

SUMMARY: The purpose of this project is to develop a safe, legal snowmobile access from the McFarland Lake area to South Fowl Lake on the Gunflint Ranger District, Superior National Forest. This project was previously scoped and analyzed in an Environmental Assessment (EA) in 2005. A Decision Notice on the project was issued in February 2006. The decision was litigated and the Minnesota District Court required that an Environmental Impact Statement (EIS) be prepared to “evaluate more thoroughly the sound impact in the BWCAW”. This Notice of Intent begins the process for completing the required EIS and fulfilling the court order. Your comments on scoping this EIS will be most useful if they contain new information or issues on the scope of this project that were not submitted in previous comments on this project.

DATES: Comments concerning the scope of the analysis must be received by September 24, 2009. The Draft Environmental Impact Statement is expected January 2010, and the Final Environmental Impact Statement is expected April 2010.

ADDRESSES: Send written comments to Dennis Neitzke, Gunflint District Ranger, RE: South Fowl Lake Snowmobile Access Project EIS, at 2020 W. Highway 61, Grand Marais, MN 55604. Comments may also be sent via e-mail to comments-eastern superior-gunflint@fs.fed.us, or via facsimile to (218) 387-3246.

FOR FURTHER INFORMATION CONTACT: Peter Taylor, Forest Environmental Coordinator, at (218) 626-4368 or prtaylor@fs.fed.us. Go to http://www.fs.fed.us/r9/forests/superior/projects/sf.php for the previously prepared EA and Decision Notice for this project.

SUPPLEMENTARY INFORMATION:

Purpose and Need for Action

The purpose of this project is to develop a safe, legal snowmobile access from the McFarland Lake area to South Fowl Lake on the Gunflint Ranger District, Superior National Forest. This access would fill the public's desire of access without threatening private land or damaging the wilderness resources. The Forest Service is undertaking this project because the Tilbury Trail is not legal, is closed, and a safe route does not exist. A route designated by the Forest Service, in cooperation with the Minnesota DNR and Cook County, will restrict use to a safer route, better able to handle the existing use.

This project was previously scoped and analyzed in an Environmental Assessment (EA) in 2005. A Decision Notice on the project was issued February 2006. The decision was litigated and the Minnesota District Court required that an Environmental Impact Statement (EIS) be prepared to “evaluate more thoroughly the sound impact in the BWCAW” (Civil No. 06-3357 JRT/RLE page 28). This Notice of Intent begins the process for completing the required EIS and fulfilling the court order. A more complete history of this project is available through the EA and Decision Notice at http://www.fs.fed.us/r9/forests/superior/projects/sf.php.

Proposed Action

The proposed action is described as Alternative 2 in the previously completed Environmental Assessment for this project. The snowmobile trail begins at McFarland Lake and travels to the east. The public parking area for the John Lake would be used to service this trail. It crosses the Arrowhead Trail, the Border Route hiking trail, and the former Tilbury trail before moving southeast, ascending to a bench on the ridge above the Royal River. The route follows the ridge in an east-southeast direction about 1.3 miles, then down-slope northeast to level ground and directly east to South Fowl Lake. The total length would be approximately 2.22 miles (2.8 acres opened), with 1.62 miles on Federal land and .6 miles on State land. The entire length would be new construction, completely outside the Boundary Waters Canoe Area Wilderness. One thousand feet of the route where it ascends the west side of the ridge would be the standard 16-foot clearing, but the remainder would be a maximum of 10 feet (8-foot tread) to minimize resource impacts. The John Lake public parking area is satisfactory as a snowmobile trailhead and would be graded and resurfaced with crushed gravel.

Possible Alternatives

Several Alternatives were identified by scoping for the previously completed EA. These will be brought forward into the EIS. These include the proposed action alternative, a no action alternative, a south route, and a shortened route. Detailed descriptions and maps of these alternatives may be found in the EA (available at http://www.fs.fed.us/r9/forests/superior/projects/sf.php).

Responsible Official

Gunflint District Ranger.

Nature of Decision To Be Made

The decision to be made is whether to or not to develop a safe, legal snowmobile access from the McFarland Lake area to South Fowl Lake on the Gunflint Ranger District, Superior National Forest. The decision will include:

1. What actions would be used to address the purpose and need;

2. Where and when those actions would take place;

3. What mitigation measures and monitoring requirements would be required.

Preliminary Issues

Issues identified in the previously completed EA include Threatened, Endangered and Sensitive Species; Soil Resources; Off-Highway Vehicles; Forest Vegetation; Wilderness Values; Human Use Patterns and Safety; Land Ownership and Economics. These issues will be carried forward for analysis in the Environmental Impact Statement. The Wilderness Values section will include further disclosure of effects of noise to the Boundary Waters Canoe Area Wilderness.

Scoping Process

This project was previously scoped for the preparation of the 2005 EA. The issues identified in scoping for the EA will be brought forward for effects disclosure in the EIS. In addition, response to comments submitted on the EA may be found at Appendix D to the Decision Notice (available at http://www.fs.fed.us/r9/forests/superior/projects/sf.php). Your comments on scoping this EJS will be most useful if they contain new information or issues on the scope of this project that were not submitted in previous comments on this project.

The scoping process will include: (1) Identification of potential issues; (2) identification of issues to be analyzed in depth; and (3) elimination of insignificant issues, or those which have been covered by a previous environmental review. Based on the results of scoping and the resource capabilities within the project area, alternatives, including a no-action alternative, will be developed for the draft environmental impact statement.

A Draft Environmental Impact Statement will be prepared for comment. The comment period on the Draft Environmental Impact Statement will be 45 days from the date the Environmental Protection Agency publishes the notice of availability in the Federal Register. It is important that reviewers provide their comments on the Draft Environmental Impact Statement at such times and in such manner that they are useful to the agency's preparation of the Environmental Impact Statement. Therefore, comments should be provided prior to the close of the comment period and should clearly articulate the reviewer's concerns and contentions. The submission of timely and specific comments can affect a reviewer's ability to participate in subsequent administrative appeal or judicial review.

Comments received in response to this solicitation, including names and addresses of those who comment, will be part of the public record for this proposed action. Comments submitted anonymously will be accepted and considered; however, anonymous comments will not provide the respondent with standing to participate in subsequent administrative review or judicial review.

Dated: August 17, 2009.
James W. Sanders,
Forest Supervisor.

[FR Doc. E9-20341 Filed 8-25-09; 8:45 am]

BILLING CODE 3410-11-M